DEPARTMENT OF COMMERCE

International Trade Administration

[A-570-922]

Raw Flexible Magnets From the People's Republic of China: Initiation of Antidumping Duty New Shipper Review

AGENCY: Import Administration, International Trade Administration, Department of Commerce.

EFFECTIVE DATE: April 30, 2010.

SUMMARY: The Department of Commerce (“Department”) has determined that a request for a new shipper review of the antidumping duty order on raw flexible magnets (“magnets”) from the People's Republic of China (“PRC”) meets the statutory and regulatory requirements for initiation. The period of review (“POR”) for the new shipper review is September 1, 2009, through February 28, 2010.

FOR FURTHER INFORMATION CONTACT: Rebecca Pandolph or Zhulieta Willbrand, AD/CVD Operations, Office 4, Import Administration, International Trade Administration, U.S. Department of Commerce, 14th Street and Constitution Avenue, N.W., Washington, DC 20230, telephone: (202) 482-3627, or (202) 482-3147, respectively.

SUPPLEMENTARY INFORMATION:

Background

The antidumping duty order on magnets from the PRC was published on September 17, 2008. See Antidumping Duty Order: Raw Flexible Magnets from the People's Republic of China, 73 FR 53847 (September 17, 2008). On March 29, 2010, pursuant to section 751(a)(2)(B)(i) of the Tariff Act of 1930, as amended (the “Act”), and 19 CFR 351.214(c), the Department received a timely request for a new shipper review from Jingzhou Meihou Flexible Magnet Company, Ltd. (“Jingzhou Meihou”). However, the company business proprietary version was not properly bracketed. The Department requested that Jingzhou Meihou resubmit the new shipper review request and noted that the resubmission would be considered timely for consideration of a new shipper review. See Memorandum to the File from Rebecca Pandolph, International Trade Compliance Analyst, AD/CVD Operations, Office 4, “Antidumping Duty Order on Raw Flexible Magnets from the People's Republic of China,” dated April 5, 2010. On April 5, 2010, Jingzhou Meihou resubmitted its new shipper review request. Jingzhou Meihou certified that Jingzhou Meihou is both the exporter and producer of the subject merchandise upon which its request for a new shipper review was based. On April 23, 2010, Magnum Magnetics Corporation (“Petitioner”) submitted comments regarding the request for new shipper review by Jingzhou Meihou. The Department is currently evaluating the comments submitted by Petitioner and will address the comments during the new shipper review.

Pursuant to section 751(a)(2)(B)(i)(I) of the Act and 19 CFR 351.214(b)(2)(i), Jingzhou Meihou certified that it did not export raw flexible magnets to the United States during the period of investigation (“POI”), i.e., January 1, 2007 through June 30, 2007. Further, pursuant to section 751(a)(2)(B)(i)(II) of the Act and 19 CFR 351.214(b)(2)(iii)(A), Jingzhou Meihou certified that, since the initiation of the investigation, it has never been affiliated with any PRC exporter or producer who exported magnets to the United States during the POI, including those not individually examined during the investigation. As required by 19 CFR 351.214(b)(2)(iii)(B), Jingzhou Meihou, also certified that its export activities were not controlled by the central government of the PRC.

In addition to the certifications described above, pursuant to 19 CFR 351.214(b)(2)(iv), Jingzhou Meihou submitted documentation establishing the following: (1) the date on which Jingzhou Meihou first shipped magnets for export to the United States and the date on which the magnets were first entered, or withdrawn from warehouse, for consumption; (2) the volume of its first shipment;¹ and (3) the date of its first sale to an unaffiliated customer in the United States.

¹ Jingzhou Meihou made no subsequent shipments to the United States.

The Department conducted a U.S. Customs and Border Protection (“CBP”) database query and confirmed that shipment of subject merchandise from Jingzhou Meihou had entered the United States for consumption and that liquidation of such entry had been properly suspended for antidumping duties. The Department also confirmed by examining CBP data that Jingzhou Meihou's entry was made during the POR as specified by the Department's regulations. See 19 CFR 351.214(g)(1)(i)(B). After examining CBP data, the Department requested additional information from Jingzhou Meihou. See letter to Jingzhou Meihou regarding, “Request for Antidumping and Countervailing Duty New Shipper Review of Raw Flexible Magnets from the People's Republic of China,” dated April 8, 2010. On April 12, 2010, Jingzhou Meihou submitted its response to the Department's request for additional information. See Jingzhou Meihou's letter regarding, “Request for More Information regarding Initiation of Antidumping and Countervailing Duty new Shipper Reviews of raw Flexible Magnets from the People's Republic of China,” dated April 12, 2010.

Pursuant to 19 CFR 351.221(c)(1)(i), the Department will publish the notice of initiation of a new shipper review no later than the last day of the month following the anniversary month or semiannual anniversary month of the order. Thus, the deadline for publishing this notice of initiation is April 30, 2010.

Initiation of New Shipper Reviews

Pursuant to section 751(a)(2)(B) of the Act and 19 CFR 351.214(d)(1), the Department finds that Jingzhou Meihou meets the threshold requirements for initiation of a new shipper review of its shipment of magnets from the PRC. See Memorandum to the File through Abdelali Elouaradia, Director, AD/CVD Operations, Office 4: Initiation of AD New Shipper Review of Jingzhou Meihou.: Raw Flexible Magnets from the People's Republic of China, dated concurrently with this notice; and Jingzhou Meihou Checklist.

The POR for the new shipper review of Jingzhou Meihou is September 1, 2009, through February 28, 2010. See 19 CFR 351.214(g)(1)(i)(B). The Department intends to issue the preliminary results of this review no later than 180 days from the date of initiation, and the final results of this review no later than 270 days from the date of initiation. See section 751(a)(2)(B)(iv) of the Act.

It is the Department's usual practice, in cases involving non-market economy countries, to require that a company seeking to establish eligibility for an antidumping duty rate separate from the country-wide rate provide evidence of de jure and de facto absence of government control over the company's export activities. Accordingly, we will issue a questionnaire to Jingzhou Meihou, which will include a separate rate section. The review of Jingzhou Meihou will proceed if the response provides sufficient indication that Jingzhou Meihou is not subject to either de jure or de facto government control with respect to its exports of magnets.

We will instruct CBP to allow, at the option of the importer, the posting, until the completion of the review, of a bond or security in lieu of a cash deposit for certain entries of the subject merchandise from Jingzhou Meihou in accordance with section 751(a)(2)(B)(iii) of the Act and 19 CFR 351.214(e). Because Jingzhou Meihou certified that it both produces and exports the subject merchandise, the sales of which form the basis for its new shipper review request, we will instruct CBP to permit the use of a bond only for entries of subject merchandise which the respondent both produced and exported.

Interested parties requiring access to proprietary information in this new shipper review should submit applications for disclosure under administrative protective order in accordance with 19 CFR 351.305 and 351.306.

This initiation and notice are published in accordance with section 751(a)(2)(B) of the Act and 19 CFR 351.214 and 351.221(c)(1)(i).

Dated: April 26, 2010.
Edward C. Yang,
Acting Deputy Assistant Secretary for Antidumping and Countervailing Duty Operations.

[FR Doc. 2010-10176 Filed 4-29-10; 8:45 am]

BILLING CODE 3510-DS-S